DEPARTMENT OF DEFENSE

Department of the Army; Corps of Engineers

Availability for the Draft Integrated Feasibility Report and Environmental Impact Statement/Environmental Impact Report for the Middle Creek Flood Damage Reduction and Ecosystem Restoration Project, Lake County, CA

AGENCY: Department of the Army, U.S. Army Corps of Engineers, DoD.

ACTION: Notice of availability.

SUMMARY: The U.S. Army Corps of Engineers, in coordination with Lake County and the State of California Reclamation Board, have prepared the Draft Integrated Feasibility Report and Environmental Impact Statement/Environmental Impact Report (DFR/EIS/EIR) for the Middle Creek Flood Damage Reduction and Ecosystem Restoration Project, Lake County, California. This investigation proposes to reduce flood damage and restore the historic Robinson Lake ecosystem, located at the northern end of Clear Lake, for fish and wildlife resources by restoring open water, wetland, riparian, and upland habitat; increasing the amount of breeding, feeding, and nursery grounds for fish; and reestablishing native historic plant and wildlife communities. This DFR/EIS/EIR is being made available for a 45-day public comment period. All comments should be submitted on or before May 20, 2002.

FOR FURTHER INFORMATION CONTACT: To obtain additional information related to this report, interested persons are invited to contact the following: Mr. Jerry Fuentes, Social Sciences Environmental Manager, U.S. Army Corps of Engineers, 1325 J Street, Sacramento, California 95814-2922, (916) 557-6706 or (916) 557-7856 (FAX), jerry.w.fuentes@usace.army.mil.

SUPPLEMENTARY INFORMATION: a. Report Availability. Printed copies of the DFR/EIS/EIR are available for public inspection and review at the following locations:

(1) U.S. Army Corps of Engineers, Sacramento District, 1325 J Street, Sacramento, CA 95814-2922.

(2) Lake County Library, 1425 High Street, Lakeport, CA 95453.

b. Commenting. Comments received in response to this report, including names and addresses of those who comment, will be considered part of the public record on this proposed action. Comments submitted anonymously will be accepted and considered. Pursuant to 7 CFR 1.27(d), any person may request the agency to withhold a submission from the public record by showing how the Freedom of Information (FOIA) permits such confidentiality. Persons requesting such confidentiality should be aware that, under the FOIA, confidentiality may be granted in only very limited circumstances, such as to protect trade secrets. The Corps will inform the requester of the agency's decision regarding the request for confidentiality, and where the request is denied, the agency will return the submission and notify the requester that the comments may be resubmitted with or without the name and address.

Luz D. Oritz,
Army Federal Register Liaison Officer.

[FR Doc. 02-8176 Filed 4-4-02; 8:45 am]

BILLING CODE 3710-KF-M